DEPARTMENT OF DEFENSE

Office of the Secretary

[Transmittal Nos. 13-60]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-60 with attached transmittal, policy justification, and Sensitivity of Technology.

Dated: January 30, 2014.
Aaron Siegel,
Alternate OSD Federal Register Liaison Officer, Department of Defense.

Transmittal No. 13-60

Notice of Proposed Issuance of Letter of Offer Pursuant to Section 36(b)(1) of the Arms Export Control Act, as amended

(i) Prospective Purchaser: United Arab Emirates

(ii) Total Estimated Value:

Major Defense Equipment * | $ 70 million
Other | $200 million
TOTAL | $270 million

(iii) Description and Quantity or Quantities of Articles or Services under Consideration for Purchase: The United Arab Emirates (UAE) has requested a possible sale of equipment in support of its commercial purchase of 30 F-16 Block 61 aircraft and to support the upgrade of its existing F-16 Block 60 aircraft. Major Defense Equipment includes: 40 20mm M61A Guns; 40 Embedded Global Positioning System/Inertial Navigation Systems. Also included: Identification Friend or Foe Equipment; Joint Mission Planning System; night vision devices; Cartridge Activated Device/Propellant Activated Devices; Weapons Integration; spare and repair parts; tools and test equipment; personnel training and training equipment; publications and technical documentation; International Engine Management Program-Component Improvement Program; repair and return; aerial refueling support; ferry maintenance and services; site surveys; U.S. Government and contractor engineering, technical and logistics support services; and other related elements of logistics and program support.

(iv) Military Department: Air Force (BAB)

(v) Prior Related Cases, if any: FMS case SAA-$114M—Aug 00

(vi) Sales Commission, Fee, etc., Paid, Offered, or Agreed to be Paid: None.

(vii) Sensitivity of Technology Contained in the Defense Article or Defense Services Proposed to be Sold: See Attached Annex

(viii) Date Report Delivered to Congress: 23 Jan 14

*As defined in Section 47(6) of the Arms Export Control Act.

POLICY JUSTIFICATION

United Arab Emirates—Equipment in Support of a Direct Commercial Sale of F-16 Block 61 Aircraft

The United Arab Emirates (UAE) has requested a possible sale of equipment in support of its commercial purchase of 30 F-16 Block 61 aircraft and to support the upgrade of its existing F-16 Block 60 aircraft. Major Defense Equipment includes: 40 20mm M61A Guns; and 40 Embedded GPS Inertial Navigation Systems. Also included: Identification Friend or Foe Equipment; Joint Mission Planning System; night vision devices; Cartridge Activated Device/Propellant Activated Devices; Weapons Integration; spare and repair parts; tools and test equipment; personnel training and training equipment; publications and technical documentation; International Engine Management Program-Component Improvement Program; repair and return; aerial refueling support; ferry maintenance and services; site surveys; U.S. Government and contractor engineering, technical and logistics support services; and other related elements of logistics and program support. The estimated cost is $270 million.

This proposed sale will contribute to the foreign policy and national security of the United States by to improve the security of a friendly country that has been, and continues to be, an important force for political stability and economic progress in the Middle East.

The proposed sale will improve the UAE's capability to meet current and future regional threats. The UAE continues host-nation support of vital U.S. forces stationed at Al Dhafra Air Base; plays a vital role in supporting U.S. regional interests; and has proven to be a valued partner and an active participant in overseas contingency operations.

The sale of additional F-16s to the UAE is consistent with U.S. foreign policy and national security objectives. The UAE will have no difficulty absorbing this additional equipment and support into its armed forces.

The proposed sale of equipment, services, and support will not alter the basic military balance in the region.

The principal contractor will be Lockheed Martin Aeronautics in Ft. Worth, Texas. There are no known offset agreements proposed in connection with this potential sale.

Implementation of this sale will require the assignment of additional U.S. Government or contractor representatives to the UAE. The actual number required to support the program will be determined in joint negotiations as the program proceeds through the development, production, and equipment installation phases.

There will be no adverse impact on U.S. defense readiness as a result of this sale.

Transmittal No. 13-60

Notice of Proposed Issuance of Letter of Offer Pursuant to Section 36(b)(1) of the Arms Export Control Act, as amended

Annex

Item No. vii

(vii) Sensitivity of Technology:

1. The KIV-78 Identification Friend or Foe (IFF) combined transponder interrogator system is a COMSEC controlled Item and is Unclassified unless Mode 4 operational evaluator parameters, classified Secret, are loaded into the equipment.

2. The AN/AVS-9 Night Vision Goggles (NVG) are a 3rd generation aviation NVGs offering higher resolution, high gain, and photo response to near infrared. The hardware is Unclassified and technical data and documentation to be provided is Unclassified.

3. If a technologically-advanced adversary were to obtain knowledge of the specific hardware or software in this proposed sale, the information could be used to develop countermeasures which might reduce system effectiveness or be used in the development of a system with similar or advanced capabilities.

4. A determination has been made that the recipient country can provide substantially the same degree of protection for the sensitive technology being released as the U.S. Government. This sale is necessary in furtherance of the U.S. foreign policy and national security objectives outlined in the Policy Justification.

5. All defense articles and services listed in this transmittal have been authorize for release and export to the Government of the United Arab Emirates.

[FR Doc. 2014-02275 Filed 2-3-14; 8:45 am]

BILLING CODE 5001-06-P